DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Healthcare Effectiveness and Outcomes Research.

Date: February 22-23, 2012 (Open from 8:30 a.m. to 8:45 a.m. on February 22 and closed for remainder of the meeting).

Place: Gaithersburg Marriott Washingtonian Center, 9751 Washingtonian Boulevard, Gaithersburg, MD 20850.

2. Name of Subcommittee: Health Systems and Value Research.

Date: February 22-23, 2012 (Open from 8:30 a.m. to 8:45 a.m. on February 22 and closed for remainder of the meeting).

Place: Gaithersburg Marriott Washingtonian Center, 9751 Washingtonian Boulevard, Gaithersburg, MD 20850.

3. Name of Subcommittee: Healthcare Information Technology Research.

Date: February 23-24, 2012 (Open from 8:30 a.m. to 8:45 a.m. on February 23 and closed for remainder of the meeting).

Place: Gaithersburg Marriott Washingtonian Center, 9751 Washingtonian Boulevard, Gaithersburg, MD 20850.

4. Name of Subcommittee: Healthcare Safety and Quality Improvement Research.

Date: February 29-March 1, 2012 (Open from 8:30 a.m. to 8:45 a.m. on February 29 and closed for remainder of the meeting).

Place: Gaithersburg Marriott Washingtonian Center, 9751 Washingtonian Boulevard, Gaithersburg, MD 20850.

5. Name of Subcommittee: Health Care Research Training.

Date: March 8-9, 2012 (Open from 8:30 a.m. to 8:45 a.m. on March 8 and closed for remainder of the meeting).

Place: Gaithersburg Marriott Washingtonian Center, 9751 Washingtonian Boulevard, Gaithersburg, MD 20850.

Contact Person: Anyone wishing to obtain a roster of members, agenda or minutes of the nonconfidential portions of the meetings should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: January 11, 2012.
Carolyn M. Clancy,
Director.

[FR Doc. 2012-992 Filed 1-19-12; 8:45 am]

BILLING CODE 4160-90-P